DEPARTMENT OF TRANSPORTATION

Federal Aviation Administration

14 CFR Part 39

[Docket No. FAA-2025-0009; Project Identifier MCAI-2024-00317-T; Amendment 39-23018; AD 2025-08-05]

RIN 2120-AA64

Airworthiness Directives; Airbus SAS Airplanes

AGENCY: Federal Aviation Administration (FAA), DOT.

ACTION: Final rule.

SUMMARY: The FAA is adopting a new airworthiness directive (AD) for certain Airbus SAS Model A319-111, -112, -113, -114, -115, -131, -132, and -133 airplanes. This AD was prompted by a widespread fatigue damage (WFD) scenario review for a certification project that indicated several cracks found around the potable water and wastewater service panels were WFD instead of typical fatigue. This AD requires modification of the potable water and wastewater service panels, as specified in a European Union Aviation Safety Agency (EASA) AD, which is incorporated by reference. The FAA is issuing this AD to address the unsafe condition on these products.

DATES: This AD is effective June 5, 2025.

The Director of the Federal Register approved the incorporation by reference of a certain publication listed in this AD as of June 5, 2025.

ADDRESSES:

AD Docket: You may examine the AD docket at regulations.gov under Docket No. FAA-2025-0009; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0009.

FOR FURTHER INFORMATION CONTACT: Timothy Dowling, Aviation Safety Engineer, FAA, 2200 South 216th St., Des Moines, WA 98198; phone: 206-231-3667; email: Timothy.P.Dowling@faa.gov.

SUPPLEMENTARY INFORMATION:

Background

The FAA issued a notice of proposed rulemaking (NPRM) to amend 14 CFR part 39 by adding an AD that would apply to certain Airbus SAS Model A319-111, -112, -113, -114, -115, -131, -132, and -133 airplanes. The NPRM published in the Federal Register on January 23, 2025 (90 FR 7996). The NPRM was prompted by AD 2024-0105, dated May 30, 2024, issued by EASA, which is the Technical Agent for the Member States of the European Union (EASA AD 2024-0105) (also referred to as the MCAI). The MCAI states that, during the WFD scenario review of the frame for certification of the Airbus SAS Model A321XLR, it has been identified that some previous findings of the full-scale fatigue test in WFD areas were not properly correlated. The WFD criteria in terms of number of findings per location and end-of-test demonstrated life have to be assessed accordingly. Several cracks found around the potable water and wastewater service panels (WFD areas) shall be considered as WFD instead of typical fatigue findings; therefore, WFD fatigue calculations must be updated accordingly.

In the NPRM, the FAA proposed to require modification of the potable water and wastewater service panels, as specified in EASA AD 2024-0105. The FAA is issuing this AD to address cracks around the potable water and wastewater service panels, which could affect the structural integrity of the fuselage.

You may examine the MCAI in the AD docket at regulations.gov under Docket No. FAA-2025-0009.

Discussion of Final Airworthiness Directive

Comments

The FAA received comments from United Airlines who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and the addition of Note 1 to paragraph (g), this AD is adopted as proposed in the NPRM. None of the changes will increase the economic burden on any operator.

Material Incorporated by Reference Under 1 CFR Part 51

EASA AD 2024-0105 specifies procedures for modification of the potable water service panel at stringer (STR) 43 between frames (FRs) 65 and 66 and the wastewater service panel at STR 40 between FRs 65 and 66. Modification includes:

• Removing the solid rivets in both service panels areas;

• Performing a rotating probe test (i.e., inspection) of the fastener holes for both service panels for any crack;

• If any crack is detected in any service panel, obtaining and following approved repair instructions;

• If any crack is not detected in the potable water service panel, cold working the fastener holes;

• If any crack is not detected in the wastewater service panel, drilling the fastener holes; and

• Installing hi-lok fasteners with interference fit in both service panels.

This material is reasonably available because the interested parties have access to it through their normal course of business or by the means identified in the ADDRESSES section.

Costs of Compliance

The FAA estimates that this AD affects 344 airplanes of U.S. registry. The FAA estimates the following costs to comply with this AD:

Estimated Costs for Required Actions
Labor cost | Parts cost | Cost per product | Cost on U.S. operators
27 work-hours × $85 per hour = $2,295 | $110 | $2,405 | $827,320

The FAA has received no definitive data on which to base the cost estimates for the on-condition repair of any crack, as specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-08-05 Airbus SAS: Amendment 39-23018; Docket No. FAA-2025-0009; Project Identifier MCAI-2024-00317-T.

(a) Effective Date

This airworthiness directive (AD) is effective June 5, 2025.

(b) Affected ADs

None.

(c) Applicability

This AD applies to Airbus SAS Model A319-111, -112, -113, -114, -115, -131, -132, and -133 airplanes, certificated in any category, as identified in European Union Aviation Safety Agency (EASA) AD 2024-0105, dated May 30, 2024 (EASA AD 2024-0105).

(d) Subject

Air Transport Association (ATA) of America Code 53, Fuselage.

(e) Unsafe Condition

This AD was prompted by a widespread fatigue damage (WFD) scenario review for a certification project that indicated several cracks found around the potable water and wastewater service panels are WFD instead of typical fatigue. The FAA is issuing this AD to address cracks around the potable water and wastewater service panels. The unsafe condition, if not addressed, could affect the structural integrity of the fuselage.

(f) Compliance

Comply with this AD within the compliance times specified, unless already done.

(g) Requirements

Except as specified in paragraph (h) of this AD: Comply with all required actions and compliance times specified in, and in accordance with, EASA AD 2024-0105.

Note 1 to paragraph (g): FAA AD 2025-03-06, Amendment 39-22954 (90 FR 9595, February 14, 2025) mandates new airworthiness limitations, including tasks 534141-02-2 and 534142-02-1, which are referred to in paragraph (2) of EASA AD 2024-0105.

(h) Exception to EASA AD 2024-0105

This AD does not adopt the “Remarks” section of EASA AD 2024-0105.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Timothy Dowling, Aviation Safety Engineer, FAA, 2200 South 216th St., Des Moines, WA 98198; phone: 206-231-3667; email: Timothy.P.Dowling@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0105, dated May 30, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on April 15, 2025.
Peter A. White,
Deputy Director, Integrated Certificate Management Division, Aircraft Certification Service.

[FR Doc. 2025-07487 Filed 4-30-25; 8:45 am]

BILLING CODE 4910-13-P